DEPARTMENT OF HEALTH AND HUMAN SERVICES

Centers for Disease Control and Prevention

[30Day-15-15IG]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Public Health Associate Program (PHAP) Alumni Assessment—New—Office for State, Tribal, Local, and Territorial Support (OSTLTS)—(proposed), Centers for Disease Control and Prevention (CDC).

Background and Brief Description

The Centers for Disease Control and Prevention (CDC) works to protect America from health, safety and security threats, both foreign and in the U.S. CDC strives to fulfill this mission, in part, through a competent and capable public health workforce. One mechanism to developing the public health workforce is through training programs like the Public Health Associate Program (PHAP).

The mission of PHAP is to train and provide experiential learning to early career professionals who contribute to the public health workforce. PHAP targets recent graduates with bachelors or masters degrees who are beginning a career in public health. Each year, a new cohort of up to 200 associates is enrolled in the program. Associates are CDC employees who complete two-year assignments in a host site (i.e., a state, tribal, local, or territorial health department or non-profit organization). Host sites design their associates' assignments to meet their agency's unique needs while also providing on-the-job experience that prepares associates for future careers in public health. Associates also receive CDC-based training in core public health concepts and topics to provide the knowledge, skills, and abilities necessary to succeed in their assignments and provide a foundation for a career in public health. PHAP hosts an initial in-person orientation and annual public health training at CDC and offers long-distance learning opportunities throughout the program. It is the goal of PHAP that following participation in the two-year program, alumni will seek employment within the public health system (i.e., federal, state, tribal, local, or territorial health agencies, or non-governmental organizations), focusing on public health or health/healthcare.

When PHAP originated in 2007, the program focused on increasing recruitment and enrollment; to date, there has been limited systematic assessment of the program. As a result, one current program priority is focused on documenting program outcomes to inform refinements to program processes and activities, demonstrate program impact, and inform decision making about future program direction. The purpose of this information collection request (ICR) is to gain approval to follow alumni career progression following participation in PHAP. The ICR will enable the program to demonstrate evidence of program outcomes, specifically to document how many alumni are retained as members of the public health workforce, where alumni are employed, what topical and functional public health areas alumni support (e.g., chronic disease, infectious disease, assessment, communications, etc.), to what extent alumni support the capabilities of public health agencies at the federal, state, territorial, local, tribal, and non-governmental organizational levels, and to what extent PHAP has influenced alumni career paths (if at all). Information will be used to answer key program assessment questions, specifically: “Is PHAP a quality program?”, “Is PHAP an effective program?”, and “What is the impact of PHAP?”

CDC will administer the PHAP Alumni Assessment at two different time points (1 year post-graduation, and 3 years post-graduation) to PHAP alumni. Assessment questions will remain consistent at each administration (i.e., 1 year, or 3 years post-PHAP graduation). The language, however, will be updated for each assessment administration to reflect the appropriate time period. It is estimated that there will be no more than 480 respondents (160 respondents annually) over the course of the three year approval period. Assessments will be administered electronically; each alumnus will receive an embedded link in an email invitation that is unique to that alumnus; each alumnus will only have access to his/her link to the assessment Web site. The total estimated burden is 8 minutes per respondent per assessment. The total annualized estimated burden is 21 hours.

There are no costs to respondents except their time.

Estimated Annualized Burden Hours
Type of respondent | Form name | Number of respondents | Number of responses per respondent | Average burden per response (in hours)
PHAP Alumni | PHAP Alumni Assessment | 160 | 1 | 8/60

Leroy A. Richardson,
Chief, Information Collection Review Office, Office of Scientific Integrity, Office of the Associate Director for Science, Office of the Director, Centers for Disease Control and Prevention.

[FR Doc. 2015-10183 Filed 4-30-15; 8:45 am]

BILLING CODE 4163-18-P